DEPARTMENT OF HEALTH AND HUMAN SERVICES

Centers for Disease Control and Prevention

National Center for Environmental Health/Agency for Toxic Substances and Disease Registry

The Board of Scientific Counselors, Centers for Disease Control and Prevention (CDC), National Center for Environmental Health/Agency for Toxic Substances and Disease Registry (NCEH/ATSDR): Meeting.

In accordance with section 10(a)(2) of the Federal Advisory Committee Act (Pub. L. 92-463), CDC and NCEH/ATSDR announce the following committee meeting:

Name: Board of Scientific Counselors (BSC), NCEH/ATSDR.

Times and Dates: 8 a.m. -4:45 p.m., May 4, 2006. 8 a.m.-12:15 p.m., May 5, 2006.

Place: 1825 Century Boulevard, Atlanta, Georgia 30345.

Status: Open to the public, limited only by the space available. The meeting room accommodates approximately 75 people.

Purpose: The Secretary, Department of Health and Human Services (HHS) and by delegation, the Director, CDC, and Administrator, NCEH/ATSDR, are authorized under section 301 (42 U.S.C. 241) and section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC, and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters To Be Discussed: Items will include but are not limited to a discussion of Fiscal Years 2006 and 2007 budget implications; an update on the peer review of the Air Pollution and Respiratory Health Branch and the Division of Toxicology and Environmental Medicine; a discussion of the Program Peer Review Subcommittee process; updates on the Community and Tribal Subcommittee, the Health Department Subcommittee and the Delisting Workgroup; a discussion on the implications of the Office of Management and Budget Data Quality Guidelines and proposed bulletin on risk assessments; a discussion on the environmental health aspects of pandemic flu planning, the environmental health implications; discussion on future goals, directions, and new priorities; and an introduction of the Goals' Managers.

Agenda items are tentative and subject to change.

FOR FURTHER INFORMATION CONTACT: Sandra Malcom, Committee Management Specialist, NCEH/ATSDR, 1600 Clifton Road, Mail Stop E-28, Atlanta, Georgia 30303; telephone (404) 498-0003, fax (404) 498-0622; E-mail: smalcom@cdc.gov. The deadline for notification of attendance is April 24, 2006.

The Director, Management Analysis and Services Office, has been delegated the authority to sign Federal Register notices pertaining to announcements of meetings and other committee management activities for both CDC and NCEH/ATSDR.

Dated: March 14, 2006.
Alvin Hall,
Director, Management Analysis and Services Office, Centers for Disease Control and Prevention (CDC).

[FR Doc. 06-2653 Filed 3-20-06; 8:45 am]

BILLING CODE 4163-18-P